DEPARTMENT OF HEALTH AND HUMAN SERVICES

Centers for Disease Control and Prevention

[60Day-11-11FK]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Daniel Holcomb, CDC Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Exploring the OSH Needs of Small Construction Business—New—National Institute for Occupational Safety and Health (NIOSH), Centers for Disease Control and Prevention (CDC).

Background and Brief Description

The mission of the National Institute for Occupational Safety and Health (NIOSH) is to promote safety and health at work for all people through research and prevention. In this capacity, NIOSH will conduct in-depth interviews designed to assess perceptions and opinions among the target audience, small construction business owners, and to provide content for the development of a survey to assess the occupational safety and health needs and motivators for seeking occupational safety and health (OSH) information among small construction business owners.

Exploring the OSH Needs of Small Construction Business is a four year field study for which the overall goal is to identify the occupational safety and health (OSH) needs of small construction businesses (SCBs), and to inform methods that will successfully motivate SCB owners to seek OSH training relevant to their unique work situations. The data gathered in this study regarding SCB owners businesses' specific training needs, motivational factors, and preferred information sources will be of significant practical value when designing and implementing future interventions.

As part of this project, a survey will be developed to assess SCB owners businesses' specific training needs, motivational factors, and preferred information sources. The proposed in-depth interviews described here are a critical step toward the development of this survey. Phase 1 of this project included interview development and revision. The goal of Phase 2 of this project is to gather key-informant perceptions and opinions among the target audience, small construction business owners in the greater Cincinnati area with 10 or fewer employees. Data gathered from in-depth interviews will provide response content for the development of a survey to assess the occupational safety and health needs and motivators for seeking OSH information among small construction business owners. That is, the results of these interviews will be analyzed to identify common sets of responses, and these responses will be used in the development of the survey mentioned above.

Construction had the most fatal injuries of any sector, with 1,178 fatalities in 2006 (21% of total) (U.S. Dept. of Labor, 2008). More than 79% of construction businesses employ fewer than 10 employees (CPWR, 2007), and this establishment size experiences the highest fatality rate within construction (U.S. Dept. of Labor, 2008). The need for reaching this population with effective, affordable, and culturally appropriate training has been documented in publications and is increasingly becoming an institutional priority at NIOSH. Given the numerous obstacles which small construction business owners face in effectively managing occupational safety and health (e.g., financial and time constraints), there is a need for identifying the most crucial components of occupational safety and health training. Additionally, previous investigations suggest a need for persuading small construction business owners to seek out occupational safety and health training.

This interview will be administered to a sample of approximately 30 owners of construction businesses with 10 or fewer employees from the Greater Cincinnati area. The sample size is based on recommendations related to qualitative interview methods and the research team's prior experience.

Participants for this data collection will be recruited with the assistance of contractors who have successfully performed similar tasks for NIOSH in the past. Participants will be compensated for their time. The interview questionnaire will be administered verbally to participants in English.

Once this study is complete, results will be made available via various means including print publications and the agency Internet site. The information gathered by this project could be used by OSHA to determine guidelines for the development of appropriate training materials for small construction businesses. The results of this project will benefit construction workers by developing recommendations for increasing the effectiveness of occupational safety and health outreach methods specifically targeted to small construction businesses. Although beyond the scope of this study, it is expected that improved use of OSH programs will lower rates of injuries and fatalities for workers.

NIOSH expects to complete data collection no later than May 2012. There is no cost to respondents other than their time.

Estimated Annualized Burden Hours
Respondents | Number of respondents | Number of responses per respondent | Average burden per response (in hours) | Total burden (in hours)
SCBs | 30 | 1 | 1.5 | 45
Total |  |  |  | 45

Dated: May 12, 2011.
Daniel Holcomb,
Reports Clearance Officer, Centers for Disease Control and Prevention.

[FR Doc. 2011-12171 Filed 5-17-11; 8:45 am]

BILLING CODE 4163-18-P